DEPARTMENT OF THE INTERIOR

Minerals Management Service

30 CFR Part 250

RIN 1010-AC32

Postlease Operations Safety

AGENCY: Minerals Management Service (MMS), Interior.

ACTION: Corrections to final regulations.

SUMMARY: This document contains corrections to the final regulations which were published Tuesday, December 28, 1999 (64 FR 72756). The regulations related to postlease operations safety. These corrections relate to an incorrect citation in the preamble to the published final regulations and to three documents incorporated by reference on Boiler and Pressure Vessel Codes.

EFFECTIVE DATE: January 27, 2000.

The incorporation by reference of certain publications listed in these rules was approved by the Director of the Federal Register as of December 15, 1999, and January 27, 2000.

FOR FURTHER INFORMATION CONTACT: Kumkum Ray, (703) 787-1600.

SUPPLEMENTARY INFORMATION:

Background

The final regulations that are the subject of these corrections supersede 30 CFR 250, subpart A, General, regulations on the effective date and affect all operators and lessees on the Outer Continental Shelf.

With respect to the correction of the three documents incorporated by reference, on December 15, 1999 (64 FR 69923), MMS published a technical amendment to § 250.101, “Documents incorporated by reference,” to update versions of the ANSI/ASME Boiler and Pressure Vessel Code, Sections I, IV, and VIII. MMS had determined that the 1998 edition, with the 1999 amendment, provided a degree of safety equal to the previously incorporated 1995 edition, as had been determined by industry. The technical amendment was effective on December 15, 1999. We had expected the publication of the final rule superseding 30 CFR 250, subpart A, to be published and become effective much sooner than actually occurred. As published, this final rule redesignates § 250.101 as § 250.198 and repeats the entire table of all of our documents incorporated by reference. However, it does not reflect the technical amendments to the ANSI/ASME Boiler and Pressure Vessel Code, Sections I, IV, and VIII documents that were updated with an effective date prior to the publication of 30 CFR 250, subpart A, regulations. Therefore, when the subpart A regulations take effect on January 27, 2000, unless corrected they will reverse the effect of the technical amendment updating the three documents. We are correcting this inadvertent mistake.

Need for Correction

As published, the final regulations contain errors which may prove to be misleading and are in need of clarification.

Correction of Publication

Accordingly, the publication on December 28, 1999, of the final regulations, which were the subject of FR Doc. 99-31869, is corrected as follows:

Preamble [Corrected]

On page 72757, in the first column, in the second “bulletted” paragraph, in the fourth sentence, the citation “§ 250.175(b)(1)” is corrected to read “§ 250.174”.

§ 250.198 [Corrected]

On page 72790, in the table in paragraph (e), the three entries for “ANSI/ASME Boiler and Pressure Vessel Code” are corrected to read as follows:

§ 250.198 Documents incorporated by reference.

* * * * *

(e) * * *

Title of documents | Incorporated by Reference at
ANSI/ASME Boiler and Pressure Vessel Code, Section I, Rules for Construction of Power Boilers, including Appendices, 1998 Edition; July 1, 1999 Addenda, Rules for Construction of Power Boilers, by ASME Boiler and Pressure Vessel Committee Subcommittee on Power Boilers; and all Section I Interpretations Volume 43 | § 250.803(b)(1), (b)(1)(i); § 250.1629(b)(1), (b)(1)(i).
ANSI/ASME Boiler and Pressure Vessel Code, Section IV, Rules for Construction of Heating Boilers, including Nonmandatory Appendices A, B, C, D, E, F, H, I, K, and L, and the Guide to Manufacturers Data Report Forms, 1998 Edition; July 1, 1999 Addenda, Rules for Construction of Heating Boilers, by ASME Boiler and Pressure Vessel Committee Subcommittee on Heating Boilers; and all Section IV Interpretations Volumes 43 and 44. | § 250.803(b)(1), (b)(1)(i); § 250.1629(b)(1), (b)(1)(i).
ANSI/ASME Boiler and Pressure Vessel Code, Section VIII, Rules for Construction of Pressure Vessels, Divisions 1 and 2, including Nonmandatory Appendices, 1998 Edition; July 1, 1999 Addenda, Rules for Construction of Pressure Vessels, by ASME Boiler and Pressure Vessel Committee Subcommittee on Pressure Vessels; and all Section VIII Interpretations, Divisions 1 and 2, Volumes 43 and 44. | § 250.803(b)(1), (b)(1)(i); § 250.1629(b)(1), (b)(1)(i).
* * * * * * *

* * * * *

* * * * *

Dated: January 5, 2000.
E.P. Danenberger,
Chief, Engineering and Operations Division.

[FR Doc. 00-1201 Filed 1-19-00; 8:45 am]

BILLIING CODE 4310-MR-P